DEPARTMENT OF ENERGY

Federal Energy Regulatory Commission

[Docket No. CP04-9-000]

GulfStream Natural Gas System, L.L.C.; Notice of Application

November 14, 2003.

On November 12, 2003, Gulfstream Natural Gas System, L.L.C. (GulfStream), 2701 North Rocky Point Drive, Suite 1050, Tampa, Florida, filed with the Federal Energy Regulatory Commission (Commission) to convert the blanket certificate authority proceeding into an application for authorization pursuant to Section 7(c) of the Natural Gas Act (NGA), as amended, and the Commission's Rules and Regulations thereunder. The certificate requested would authorize construction and operation of a 5.4-mile 30-inch diameter pipeline to a power plant in Martin County, Florida, as previously described in the Prior Notice blanket authority notice issued on November 3, 2003. This filing is available for review at the Commission or may be viewed on the Commission's Web site at http://www.ferc.gov, using the "eLibrary" link. Enter the docket number excluding the last three digits in the docket number field to access the document. For assistance, please contact FERC Online Support at FERCOnlineSupport@ferc.gov or toll-free at (866) 208-3676, or for TTY, contact (202) 502-8659.

GulfStream states that copies of this filing have been mailed to all parties on the Official Service List in this proceeding. Further, GulfStream states it will comply with Section 157.6 of the Commission's regulations and notify all affected landowners.

Questions regarding the application may be directed to P. Martin Teague, Assistant General Counsel, Gulfstream Natural Gas System, L.L.C., 2701 Rocky Point Drive, Tampa, Florida 33607, at (813) 282-6609 or pmteague@duke-energy.com.

There are two ways to become involved in the Commission's review of this project. First, any person wishing to obtain legal status by becoming a party to the proceedings for this application should, on or before November 26, 2003, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper; see 18 CFR 385.2001(a)(1)(iii) and the instructions on the Commission's Web site under the “eFiling” link. Previously filed comments, protests and interventions in this docket do not have to be refiled. The Commission strongly encourages electronic filings.

Comment Date: November 26, 2003.

Magalie R. Salas,
Secretary.

[FR Doc. E3-00339 Filed 11-20-03; 8:45 am]

BILLING CODE 6717-01-P